DEPARTMENT OF ENERGY

Federal Energy Regulatory Commission

Combined Notice of Filings #1

Take notice that the Commission received the following electric rate filings:

Docket Numbers: ER16-262-002.

Applicants: Uniper Global Commodities North America, LLC.

Description: Notice of Non-Material Change in Status of Uniper Global Commodities North America LLC.

Filed Date: 4/27/20.

Accession Number: 20200427-5290.

Comments Due: 5 p.m. ET 5/18/20.

Docket Numbers: ER18-1646-000.

Applicants: Electric Energy, Inc.

Description: Electric Energy, Inc. submits tariff filing per 35.19a(b): Refund Report_[ER18-1646 and EL18-96] to be effective N/A.

Filed Date: 5/15/20.

Accession Number: 20200515-5179.

Comments Due: 5 p.m. ET 6/5/20.

Docket Numbers: ER20-741-000.

Applicants: Midcontinent Independent System Operator, Inc., Ameren Illinois Company.

Description: Report Filing: 2020-05-08_SA 3224 Ameren Illinois-Bishop Hill FSA Refund Report Supplement to be effective N/A.

Filed Date: 5/8/20.

Accession Number: 20200508-5095.

Comments Due: 5 p.m. ET 5/29/20.

Docket Numbers: ER20-1823-000.

Applicants: Vermont Transco LLC.

Description: Petition for Limited Waiver, et al. of Vermont Transco LLC.

Filed Date: 5/14/20.

Accession Number: 20200514-5127.

Comments Due: 5 p.m. ET 5/19/20.

Docket Numbers: ER20-1825-000.

Applicants: Southern California Edison Company.

Description: Petition for Limited Waiver, et al. of Southern California Edison Company.

Filed Date: 5/14/20.

Accession Number: 20200514-5163.

Comments Due: 5 p.m. ET 5/21/20.

Docket Numbers: ER20-1826-000.

Applicants: Puget Sound Energy, Inc.

Description: § 205(d) Rate Filing: Administrative Filing to Update eTariff Database to be effective 4/1/2020.

Filed Date: 5/14/20.

Accession Number: 20200514-5169.

Comments Due: 5 p.m. ET 6/4/20.

Docket Numbers: ER20-1827-000.

Applicants: Puget Sound Energy, Inc.

Description: Tariff Cancellation: Administrative Filing to Cancel Duplicate Tariff Record to be effective 5/15/2020.

Filed Date: 5/14/20.

Accession Number: 20200514-5166.

Comments Due: 5 p.m. ET 6/4/20.

Docket Numbers: ER20-1828-000.

Applicants: PacifiCorp.

Description: Compliance filing: OATT Order 864 Compliance Filing to be effective 6/1/2020.

Filed Date: 5/14/20.

Accession Number: 20200514-5180.

Comments Due: 5 p.m. ET 6/4/20.

Docket Numbers: ER20-1829-000.

Applicants: Trans-Allegheny Interstate Line Company, PJM Interconnection, L.L.C.

Description: Compliance filing: TrAILCo submits revisions to OATT Att. H-18A re: Order 864 to be effective 1/27/2020.

Filed Date: 5/15/20.

Accession Number: 20200515-5017.

Comments Due: 5 p.m. ET 6/5/20.

Docket Numbers: ER20-1830-000.

Applicants: Duquesne Light Company, PJM Interconnection, L.L.C.

Description: Compliance filing: Duquesne submits revisions to OATT Att H-17A re: Order 864 to be effective 1/27/2020.

Filed Date: 5/15/20.

Accession Number: 20200515-5030.

Comments Due: 5 p.m. ET 6/5/20.

Docket Numbers: ER20-1831-000.

Applicants: UGI Utilities, Inc., PJM Interconnection, L.L.C.

Description: Compliance filing: UGI submits revisions to OATT Attachment H-8C re: Order 864 to be effective 1/27/2020.

Filed Date: 5/15/20.

Accession Number: 20200515-5057.

Comments Due: 5 p.m. ET 6/5/20.

Docket Numbers: ER20-1832-000.

Applicants: Duke Energy Ohio, Inc., Duke Energy Kentucky, Inc., PJM Interconnection, L.L.C.

Description: Compliance filing: DEOK submits revisions to OATT, Att. H-22A re: Order 864 to be effective 1/27/2020.

Filed Date: 5/15/20.

Accession Number: 20200515-5123.

Comments Due: 5 p.m. ET 6/5/20.

Docket Numbers: ER20-1833-000.

Applicants: GenOn Mid-Atlantic, LLC.

Description: § 205(d) Rate Filing: Reactive Service Rate Schedule Filing for Deactivation of Dickerson Units to be effective 7/17/2020.

Filed Date: 5/15/20.

Accession Number: 20200515-5124.

Comments Due: 5 p.m. ET 6/5/20.

Docket Numbers: ER20-1834-000.

Applicants: Pacific Gas and Electric Company.

Description: § 205(d) Rate Filing: 2nd Amendment to Lassen Municipal Utility District IA (RS 225) to be effective 7/1/2020.

Filed Date: 5/15/20.

Accession Number: 20200515-5126.

Comments Due: 5 p.m. ET 6/5/20.

Docket Numbers: ER20-1835-000.

Applicants: Puget Sound Energy, Inc.

Description: § 205(d) Rate Filing: BPA-Lewis PUD Agreements to be effective 6/1/2020.

Filed Date: 5/15/20.

Accession Number: 20200515-5153.

Comments Due: 5 p.m. ET 6/5/20

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 15, 2020.
Nathaniel J. Davis, Sr.,
Deputy Secretary.

[FR Doc. 2020-10969 Filed 5-20-20; 8:45 am]

BILLING CODE 6717-01-P